DEPARTMENT OF LABOR

Occupational Safety and Health Administration

[Docket No. OSHA-2009-0025]

Underwriters Laboratories Inc.; Application for Expansion of Recognition

AGENCY: Occupational Safety and Health Administration (OSHA), Labor.

ACTION: Notice.

SUMMARY: This notice announces (1) the application of Underwriters Laboratories, Inc. (UL), for expansion of its recognition, (2) the Agency's preliminary finding to grant this request, and (3) UL's voluntary modification of its NRTL scope of recognition. This notice also announces that, because the standards-development organization withdrew UL 486A from its list of published standards, OSHA is deleting this test standard from the scopes of NRTLs previously recognized to use this test standard. Finally, this notice requests comments on OSHA's proposed deletion of an additional five test standards from the scopes of NRTLs currently recognized for these test standards.

DATES: Submit information and comments regarding the UL expansion application and the proposed deletion of five test standards from NRTLs' scopes of recognition, as well as requests for an extension of the comment period, on or before May 11, 2010. All submissions must bear a postmark or provide other evidence of the submission date.

The voluntary modification of UL's NRTL scope of recognition and the deletion of UL 486A is effective April 26, 2010. Do not submit comments or other responses regarding these actions.

ADDRESSES: Submit comments by any of the following methods:

Electronically: Submit comments electronically at http://www.regulations.gov, which is the Federal eRulemaking Portal. Follow the instructions online for making electronic submissions.

Fax: If submissions, including attachments, are no longer than 10 pages, commenters may fax them to the OSHA Docket Office at (202) 693-1648.

Mail, hand delivery, express mail, or messenger or courier service: Submit one copy of the comments to the OSHA Docket Office, Docket No. OSHA-2009-0025, U.S. Department of Labor, Room N-2625, 200 Constitution Avenue, NW., Washington, DC 20210. Deliveries (hand, express mail, and messenger and courier service) are accepted during the Department of Labor's and Docket Office's normal business hours, 8:15 a.m.-4:45 p.m., e.t.

Instructions: All submissions must include the Agency name and the OSHA docket number (i.e., OSHA-2009-0025). OSHA will place all submissions, including any personal information provided, in the public docket without revision, and these submissions will be made available online at http://www.regulations.gov.

Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office.

Extension of comment period: Submit requests for an extension of the comment period on or before May 11, 2010 to the Office of Technical Programs and Coordination Activities, NRTL Program, Occupational Safety and Health Administration, U.S. Department of Labor, 200 Constitution Avenue, NW., Room N-3655, Washington, DC 20210, or by fax to (202) 693-1644.

FOR FURTHER INFORMATION CONTACT: MaryAnn Garrahan, Director, Office of Technical Programs and Coordination Activities, NRTL Program, Occupational Safety and Health Administration, U.S. Department of Labor, 200 Constitution Avenue, NW., Room N-3655, Washington, DC 20210; telephone: (202) 693-2110. For information about the NRTL Program, go to http://www.osha.gov, and select “N” in the site index.

SUPPLEMENTARY INFORMATION:

Notice of Expansion Application

The Occupational Safety and Health Administration (OSHA) is providing notice that Underwriters Laboratories, Inc. (UL), applied for expansion of its current recognition as a Nationally Recognized Testing Laboratory (NRTL). UL's expansion request covers the use of additional test standards.

OSHA recognition of an NRTL signifies that the organization meets the legal requirements specified in 29 CFR 1910.7. Recognition is an acknowledgment that the organization can perform independent safety testing and certification of the specific products covered within its scope of recognition, and is not a delegation or grant of government authority. As a result of recognition, employers may use products approved by the NRTL to meet OSHA standards that require product testing and certification.

The Agency processes applications by an NRTL for initial recognition, or for an expansion or renewal of this recognition, following requirements in Appendix A to 29 CFR 1910.7. This appendix requires that the Agency publish two notices in the Federal Register in processing an application. In the first notice, OSHA announces the application and provides its preliminary finding, and, in the second notice, the Agency provides its final decision on the application. These notices set forth the NRTL's scope of recognition or modifications of that scope. OSHA maintains an informational Web page for each NRTL that details its scope of recognition. These pages can be accessed from the Web site at http://www.osha.gov/dts/otpca/nrtl/index.html. Each NRTL's scope of recognition has three elements: (1) Type of products the NRTL may test, with each type specified by its applicable test standard; (2) the recognized site(s) that has/have the technical capability to perform the testing and certification activities for test standards within the NRTL's scope; and (3) the supplemental program(s) that the NRTL may use, each of which allows the NRTL to rely on other parties to perform activities necessary for product testing and certification.

General Background on the Application

UL submitted an application, dated February 20, 2008, as an amendment to its application for renewal of recognition. (Ex. 2—UL expansion application dated 2/20/2008.) This amendment requested an expansion of recognition to add 98 standards ¹ to UL's scope and to delete several test standards from its scope. The NRTL Program staff determined that 49 of the requested standards are “appropriate test standards” within the meaning of 29 CFR 1910.7(c). UL later modified its request to reduce the number of the appropriate standards to 35. (Ex. 3—UL amended expansion application dated 2/16/2010.)

¹ UL requested recognition for ANSI/AAMI ES60601-1:2005, but OSHA has not yet determined whether this standard may be used by NRTLs. OSHA will request public comment on the suitability of this standard in an upcoming Federal Register notice.

In connection with this request, NRTL Program staff did not perform any onsite review of UL's recognized sites. The staff only performed a comparability analysis,² which determined that UL has the capabilities to perform the testing to the 35 standards, (see the list below). As a result, the Agency would approve these 35 test standards for the expansion.

² This analysis involves determining whether the testing and evaluation requirements of test standards already in an NRTL's scope are comparable to the requirements in the standards requested by the NRTL.

UL seeks expansion of its recognition for testing and certification of products to the following test standards: ³

³ The designations and titles of these test standards were current at the time of the preparation of this notice.

IEEE C37.20.4 Indoor AC Switches (1 kV-38 kV) for Use in Metal-Enclosed Switchgear ᵃ

IEEE C37.20.6 4.76 kV to 38 kV Rated Grounding and Testing Devices Used in Enclosures ᵃ

IEEE C37.23 Metal-Enclosed Bus ᵃ

IEEE C37.41 High-Voltage Fuses, Distribution Enclosed Single-Pole Air Switches, Fuse Disconnecting Switches, and Accessories ᵃ

IEEE C37.74 Subsurface, Vault, and Pad-Mounted Load-Interrupter Switchgear and Fused Load-Interrupter Switchgear for Alternating Current Systems Up to 38 KV Switchgear ᵃ

IEEE C57.12.44 Secondary Network Protectors ᵃ

ISA 12.12.01 Nonincendive Electrical Equipment for Use in Class I and II, Division 2 and Class III, Divisions 1 and 2 Hazardous (Classified) Locations

UL 5C Surface Raceways and Fittings for Use with Data, Signal, and Control Circuits

UL 283 Air Fresheners and Deodorizers

UL 458 Power Converters/Inverters and Power Converter/Inverter Systems for Land Vehicles and Marine Crafts ᵇ

NFPA 496 Purged and Pressurized Enclosures for Electrical Equipment

UL 852 Metallic Sprinkler Pipe for Fire Protection Service

UL 962 Household and Commercial Furnishings ᶜ

UL 1340 Hoists

UL 1626 Residential Sprinklers for Fire Protection Service

UL 2225 Cables and Cable Fittings for Use in Hazardous (Classified) Locations

UL 2443 Flexible Sprinkler Hose With Fittings for Fire Protection Service

UL 5085-2 Low Voltage Transformers—Part 2: General Purpose Transformers

UL 60730-2-8 Automatic Electrical Controls for Household and Similar Use; Part 2: Particular Requirements for Electrically Operated Water Valves, Including Mechanical Requirements

UL 60745-2-1 Particular Requirements for Drills and Impact Drills

UL 60745-2-3 Particular Requirements for Grinders, Polishers and Disk-Type Sanders

UL 60745-2-11 Particular Requirements for Reciprocating Saws

UL 60745-2-12 Particular Requirements for Concrete Vibrators

UL 60745-2-14 Particular Requirements for Planers

UL 60745-2-17 Particular Requirements for Routers and Trimmers

UL 60745-2-18 Particular Requirements for Strapping Tools

UL 60745-2-19 Particular Requirements for Jointers

UL 60745-2-2 Particular Requirements for Screwdrivers and Impact Wrenches

UL 60745-2-20 Particular Requirements for Band Saws

UL 60745-2-21 Particular Requirements for Drain Cleaners

UL 60745-2-4 Particular Requirements for Sanders and Polishers Other Than Disk Type

UL 60745-2-5 Particular Requirements for Circular Saws

UL 60745-2-6 Particular Requirements for Hammers

UL 60745-2-8 Particular Requirements for Shears and Nibblers

UL 60745-2-9 Particular Requirements for Tappers

Notes: ᵃ Recognition for this standard does not apply to testing and certification of equipment or materials used in installations that are excluded from the provisions of subpart S in 29 CFR 1910 by section 1910.302(a)(2).

ᵇ Recognition for this standard is limited to testing and certification of products used within recreational vehicles and mobile homes.

ᶜ Recognition of this standard is limited to testing and certification of the electrical devices falling within the standard's scope.

OSHA's recognition of UL, or any NRTL, for a particular test standard is limited to equipment or materials (i.e., products) for which OSHA standards require third-party testing and certification before use in the workplace. Consequently, if a test standard also covers any product for which OSHA does not require such testing and certification, an NRTL's scope of recognition does not include that product.

The test standards listed above may be approved as American National Standards by the American National Standards Institute (ANSI). However, for convenience, we may use the designation of the standards-developing organization for the standard as opposed to the ANSI designation. Under the NRTL Program's policy, any NRTL recognized for a particular test standard may use either the proprietary version of the test standard or the ANSI version of that standard. Contact ANSI to determine whether a test standard is currently ANSI approved.

Voluntary Modification of Scope

UL also requested to modify its scope of recognition by deleting the following two test standards:

ANSI/IEEE C37.60 Overhead, Pad-Mounted, Dry-Vault, and Submersible Automatic Circuit Reclosers and Interrupters for AC Systems

ANSI/UL 632 Electrically Actuated Transmitters

UL originally applied for UL 486A (“Wire Connectors and Soldering Lugs for Use With Copper Conductors”) (see Ex. 2), but then excluded this standard when it later modified its request (see Ex. 3). However, as of the date of this Federal Register notice, UL 486A has been withdrawn from the list of published standards by the standards-developing organization. As a result, OSHA is deleting this standard from UL's NRTL scope, as well as the scopes of NRTLs recognized previously by OSHA for it. OSHA periodically publishes notices to make such deletions (see, for example, 74 FR 47026, September 14, 2009).

Issue Regarding NFPA Standards

UL requested that OSHA include the following four standards, issued by the National Fire Protection Association (NFPA), in UL's recognition-expansion application:

NFPA 16 Standard for the Installation of Foam-Water Sprinkler and Foam-Water Spray Systems

NFPA 17A Standard for Wet Chemical Extinguishing Systems

NFPA 2001 Standard on Clean Agent Fire Extinguishing Systems

NFPA 2010 Standard for Fixed Aerosol Fire-Extinguishing Systems

However, these test standards are not appropriate for recognition because the standards primarily cover installation, use, and maintenance of a system or its elements, instead of product-safety testing. Therefore, OSHA is not including these test standards in UL's expanded scope of recognition.

OSHA also notes that it currently recognizes several NRTLs for NFPA 16, as well as for four similar NFPA standards, none of which appears to cover primarily product-safety testing. These four standards are:

ANSI/NFPA 11 Low-, Medium-, and High-Expansion Foam

ANSI/NFPA 12 Carbon Dioxide Extinguishing Systems

ANSI/NFPA 12A Halon 1301 Fire Extinguishing Systems

ANSI/NFPA 17 Dry Chemical Extinguishing Systems

Accordingly, OSHA is proposing to remove NFPA 16 and the four similar test standards from these NRTLs' scopes of recognition. Before doing so, OSHA requests comment on whether this action would have adverse impact on the requirements for NRTL certification specified for products under its standards (such as preventing NRTLs from certifying fire-extinguishing agents or products). If commenters believe that adverse impact would occur, OSHA requests that they comment on whether the Agency should continue allowing NRTLs to use these test standards until it identifies appropriate standards for certifying the affected products.⁴ If no adverse impacts would occur, OSHA is proposing to delete NFPA 16 and the four similar test standards from the scopes of the affected NRTLs. OSHA will issue its decision regarding these test standards in the subsequent Federal Register notice announcing the results of UL's expansion request.

⁴ If OSHA determines that adverse impact would occur, OSHA may add NFPA 16 to UL's scope of recognition until it identifies an appropriate substitute test standard.

Preliminary Finding on the Application

UL submitted an acceptable request for expansion of its recognition as an NRTL. OSHA's review of the application file and other pertinent documents indicates that UL can meet the requirements, as prescribed by 29 CFR 1910.7, for an expansion of its recognition to include the additional test standards listed above. This preliminary finding does not constitute an interim or temporary approval of the application.

OSHA welcomes public comments, in sufficient detail, as to whether UL meets the requirements of 29 CFR 1910.7 for expansion of its recognition as an NRTL. Comments should consist of pertinent written documents and exhibits. Commenters needing more time to comment must submit a request, in writing, stating the reasons for the request. OSHA must receive the written request for an extension by the due date for comments. OSHA will limit any extension to 15 days unless the requester justifies a longer period. OSHA may deny a request for an extension if it is not adequately justified. To obtain or review copies of UL's request and other pertinent documents, and all submitted comments, as received, contact the Docket Office, Room N-2625, Occupational Safety and Health Administration, U.S. Department of Labor, at the above address; these materials also are available online at http://www.regulations.gov under Docket No. OSHA-2009-0025.

The NRTL Program staff will review all timely comments and, after addressing the issues raised by these comments, will recommend whether to grant UL's expansion request. The Assistant Secretary will make the final decision on granting the request, and, in making this decision, may undertake other proceedings that are prescribed in Appendix A to 29 CFR 1910.7. OSHA will publish a public notice of this final decision in the Federal Register.

Authority and Signature

David Michaels, PhD, MPH, Assistant Secretary of Labor for Occupational Safety and Health, 200 Constitution Avenue, NW., Washington, DC 20210, directed the preparation of this notice. Accordingly, the Agency is issuing this notice pursuant to Sections 6(b) and 8(g) of the Occupational Safety and Health Act of 1970 (29 U.S.C. 655 and 657), Secretary of Labor's Order No. 5-2007 (72 FR 31160), and 29 CFR part 1911.

Signed at Washington, DC, on April 20, 2010.
David Michaels,
Assistant Secretary for Occupational Safety and Health.

[FR Doc. 2010-9545 Filed 4-23-10; 8:45 am]

BILLING CODE 4510-26-P